SURFACE TRANSPORTATION BOARD

[Docket No. FD 36204]

Cairo Public Utility Company—Acquisition and Operation Exemption—Rail Line of Alabama Railroad Co., Inc., d/b/a Shawnee Terminal Railroad Co.

Cairo Public Utility Company (CPUC), a non-carrier, has filed a verified notice of exemption under 49 CFR 1150.31 to acquire and operate 2.5 miles of rail lines owned by Alabama Railroad Co., Inc. d/b/a Shawnee Terminal Railway Co. (STR), between milepost 256.9 and milepost 259.4 in or near Cairo, in Alexander County, Ill. (the Line).

CPUC states that it has reached an agreement with STR for CPUC to acquire the Line. CPUC further states that the acquisition is part of a long-term goal of creating a transload facility along the Mississippi River. According to CPUC, the proposed acquisition and operation of the Line does not involve a provision or agreement that would limit future interchange with a third-party connecting carrier.

CPUC certifies that the proposed transaction will not result in CPUC becoming a Class II or Class I rail carrier and that the projected annual revenue of CPUC will not exceed $5 million.

CPUC states that the transaction is scheduled to be consummated on or before September 15, 2018. The earliest this transaction may be consummated is July 20, 2018, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than July 13, 2018 (at least seven days before the exemption becomes effective).

An original and 10 copies of all pleadings, referring to Docket No. 36204, must be filed with the Surface Transportation Board, 395 E Street SW, Washington, DC 20423-0001. In addition, one copy of each pleading must be served on Richard H. Streeter, Law Office of Richard H. Streeter, 5255 Partridge Lane NW, Washington, DC 20016.

According to CPUC, this action is categorically excluded from environmental review under 49 CFR 1105.6(c) and from historic reporting requirements under 49 CFR 1105.8(b).

Board decisions and notices are available on our website at WWW.STB.GOV.

Decided: June 29, 2018.

By the Board, Scott M. Zimmerman, Acting Director, Office of Proceedings.

Brendetta Jones,
Clearance Clerk.

[FR Doc. 2018-14470 Filed 7-5-18; 8:45 am]

BILLING CODE 4915-01-P